ENVIRONMENTAL PROTECTION AGENCY

[FRL-6965-8]

Adequacy Status of Motor Vehicle Budgets in Submitted State Implementation Plans for Transportation Conformity Purposes; Maryland; Revised Phase II Plan for the Philadelphia-Wilmington-Trenton Ozone Nonattainment Area (Cecil County)

AGENCY: Environmental Protection Agency (EPA).

ACTION: Notice of adequacy status.

SUMMARY: EPA is announcing that the revised motor vehicle emissions budgets contained in the revised Phase II Plan for the Maryland portion (Cecil County) of the Philadelphia-Wilmington-Trenton Ozone Nonattainment Area are adequate for transportation conformity purposes. On December 28, 2000, the Maryland Department of the Environment (MDE) submitted its revised Phase II Plan to EPA as State Implementation Plan (SIP) revision. Maryland revised the 2005 attainment plan of its Phase II Plan to amend the motor vehicle emissions budgets of that plan to reflect the benefits of the Tier 2/Sulfur-in-Fuel Rule. The State also revised the 2005 rate of progress (ROP) plan of the Phase II plan to amend the motor vehicle emissions budgets to reflect rule effectiveness corrections and further reductions from the application of graphic arts rules to additional sources. EPA has found the amended budgets in Maryland's December 28, 2000 Phase II SIP revision adequate for transportation conformity purposes.

DATES: The findings that the budgets are adequate were been made in a letter dated March 26, 2001 from EPA Region III to the Maryland Department of the Environment. These adequacy findings are effective on April 27, 2001.

FOR FURTHER INFORMATION CONTACT: Paul T. Wentworth, P.E., U.S. EPA, Region III, 1650 Arch Street, Philadelphia, PA. 19103 at (215) 814-2183 or by e-mail at: wentworth.paul@epa.gov.

SUPPLEMENTARY INFORMATION: Throughout this document “we,” “us,” or “our” refer to EPA. The word “budgets” refers to the motor vehicle emission budgets for volatile organic compounds (VOCs) and nitrogen oxides ( NOX). The word “SIP” in this document refers to the revised Phase II Plan for the Philadelphia-Wilmington-Trenton nonattainment area submitted by MDE on December 28, 2000. The revisions to the Phase II Plan consist of amendments to the 2005 attainment demonstration plan for the one-hour ozone National Ambient Air Quality Standard (NAAQS) for the Philadelphia-Wilmington-Trenton nonattainment area and to the 2005 ROP plan for the Maryland portion of the Philadelphia-Wilmington-Trenton nonattainment area (Cecil County).

On March 2, 1999, the D.C. Circuit Court ruled that budgets contained in submitted SIPs cannot be used for conformity determinations until EPA has affirmatively found them adequate. On December 28, 2000, the MDE formally submitted a SIP revision to the Phase II Plan for the Philadelphia-Wilmington-Trenton Ozone Nonattainment Area. On January 17, 2001, we posted the availability of the Revised Phase II Plan and the budgets on our conformity website for the purpose of soliciting public comment on the adequacy of the budgets. The comment period closed on February 16, 2001. We did not receive any comments. On March 26, 2001, EPA Region III sent a letter to the MDE which constitutes final Agency actions on the adequacy of the budgets contained in the revised Phase II Plan. Those actions were EPA's findings that the budgets in the revised Phase II plan submitted by MDE on December 28, 2000 are adequate for transportation conformity purposes. As a result of our March 26, 2001 findings, the budgets of the 2005 attainment plan and the budgets of the 2005 ROP in Maryland's December 28, 2000 revised Phase II SIP for its portion the Philadelphia-Wilmington-Trenton nonattainment area may be used for future conformity determinations.

This is an announcement of adequacy findings that we already made on March 26, 2001. The effective date of these findings is April 27, 2001. These findings will also be announced on EPA's website: http://www.epa.gov/oms/traq (once there, click on the “Conformity” button, then look for “Adequacy Review of Submissions for Conformity”). The website will contain a detailed analysis of our adequacy findings.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the NAAQS. The criteria by which we determine whether a SIP's budgets are adequate for conformity purposes are outlined in 40 CFR 93.118 (e) (4). Please note that an adequacy finding for budgets contained in a SIP is separate from EPA's completeness determination of the SIP submission, and separate from EPA's action to approve or disapprove the SIP. Even if we find budgets adequate, the SIP could later be disapproved. We describe our process for determining the adequacy of submitted SIP budgets in guidance memorandum dated May 14, 1999 and titled “Conformity Guidance on Implementation of March 2, 1999 Conformity Court Decision”. We followed this guidance in making these adequacy findings of the budgets in Maryland's revised Phase II plan. You may obtain a copy of this guidance from EPA's conformity web site: http://www.epa.gov/oms/traq (once there, click on the “Conformity” button) or by calling the contact name listed in “For Further Information Contact” section of this notice.

Authority: 42 U.S.C. 7401-7671q.

Dated: March 29, 2001.
William C. Early,
Acting Regional Administrator, Region III.

[FR Doc. 01-9058 Filed 4-11-01; 8:45 am]

BILLING CODE 6560-50-U